NATIONAL AERONAUTICS AND SPACE ADMINISTRATION

[Notice 05-009]

NASA Sun-Solar System Connection Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Sun-Solar System Connection Strategic Roadmap Committee.

DATES: Thursday, February 10, 2005, 8:30 a.m. to 5 p.m., Friday, February 11, 2005, 8:30 a.m. to 5 p.m. eastern standard time.

ADDRESSES: NASA Headquarters, Auditorium (February 10) and room 6H46 (February 10 and 11), 300 E Street, SW., Washington, DC 20546.

FOR FURTHER INFORMATION CONTACT: Dr. Barbara Giles, 202-358-1762.

SUPPLEMENTARY INFORMATION: The meeting will be open to the public up to the seating capacity of the meeting room.

The agenda for the meeting is as follows:

—Sun-Earth Systems Program Overview and Status

—Reports on Sun-Solar System Connection Roadmap foundation work

—Discussion of science objectives and missions under study

Attendees will be requested to sign a register and to comply with NASA security requirements, including the presentation of a valid picture ID, before receiving an access badge. Foreign nationals attending this meeting will be required to provide the following information no less than 3 working days prior to the meeting: Full name; gender; date/place of birth; citizenship; visa/green card information (number, type, expiration date); passport information (number, country, expiration date); employer/affiliation information (name of institution, address, country, phone); title/position of attendee. To expedite admittance, attendees with U.S. citizenship can provide identifying information in advance by contacting Wanda Doyle via e-mail at wdoyle@hq.nasa.gov or by telephone at (202) 358-2206.

It is imperative that the meeting be held on these dates to accommodate the scheduling priorities of the key participants.

Dated: January 21, 2005.
P. Diane Rausch,
Advisory Committee Management Officer, National Aeronautics and Space Administration.

[FR Doc. 05-1548 Filed 1-27-05; 8:45 am]

BILLING CODE 7510-13-P